DEPARTMENT OF TRANSPORTATION

Federal Aviation Administration

Notice of Intent To Rule on Request To Change Airport Property From Aeronautical Use to Non-Aeronautical Use at the Williamsport Regional Airport, Montoursville, Pennsylvania

AGENCY: Federal Aviation Administration (FAA), DOT.

ACTION: Notice of Request to Change Airport Property from Aeronautical Use to Non-Aeronautical Use.

SUMMARY: The FAA proposes to rule and invite public comment on the lease of land for non-aeronautical purpose at the Williamsport Regional Airport, Montoursville, Pennsylvania under the provision 49 U.P.C. 47125(a).

DATES: Comments must be received on or before September 25, 2015.

ADDRESSES: Comments on this application may be mailed or delivered to the following address:

Thomas J. Hart, Executive Director, Williamsport Municipal Airport Authority, 700 Airport Road, Suite 204, Montoursville, Pennsylvania 17754.

and at the FAA Harrisburg Airports District Office:

Lori K. Pagnanelli, Manager, Harrisburg Airports District Office, 3905 Hartzdale Dr., Suite 508, Camp Hill, PA 17011.

FOR FURTHER INFORMATION CONTACT: Charles Trice, Civil Engineer, Harrisburg Airports District Office, location listed above.

The request to lease property may be reviewed in person at this same location.

SUPPLEMENTARY INFORMATION: The FAA invites public comment on the request to change Airport Property from aeronautical use to non-aeronautical use at the Williamsport Regional Airport under the provisions of section 47125(a) of title 49 U.S.C. On August 12, 2015, the FAA determined that the request to lease airport property for non-aeronautical purpose at the Williamsport Regional Airport (IPT), Montoursville, Pennsylvania, submitted by the Williamsport Municipal Airport Authority (Authority) met the procedural requirements.

The following is a brief overview of the request:

The Authority requests the change in use to lease approximately 35.43 acres of airport property to Hanson Aggregates Pennsylvania LLC, of Allentown, Pennsylvania to mine for sand and gravel. The land was acquired without Federal participation. The undeveloped property is located in the Borough of Montoursville, Lycoming County, Pennsylvania, immediately north of the Susquehanna River and adjacent to and south of the Williamsport Regional Airport. Hanson is proposing to lease the property for a period of twenty (20) years with an optional 5-year extension, for purposes of mining sand and gravel. As shown on the Airport Layout Plan, the property does not serve an aeronautical purpose and is not needed for future airport development. In lieu of a Fair Market Value (FMV) lease, Hanson will pay the Authority a royalty of $0.25 per ton for the first year of the lease, with a yearly escalator based on the Bureau of Labor Statistics Producers Price Index (PPI) for sand and gravel. The anticipated tonnage to be mined within this area is approximately 4,000,000 tons. Also, Hanson also will convey 7.07 acres of property to the Authority at no cost, for use by the Authority for aeronautical purposes. Finally, Hanson will release the Authority's obligations from a mining permit on 16.403 acres of property currently owned by the Authority and leased to Hanson.

Any person may inspect the request by appointment at the FAA office address listed above. Interested persons are invited to comment on the proposed lease. All comments will be considered by the FAA to the extent practicable.

Issued in Camp Hill, Pennsylvania, August 12, 2015.
Lori K. Pagnanelli,
Manager, Harrisburg Airports District Office.

[FR Doc. 2015-20755 Filed 8-25-15; 8:45 am]

BILLING CODE 4910-13-P